DEPARTMENT OF TRANSPORTATION

Surface Transportation Board

[Docket No. AB 55 (Sub-No. 659X)]

CSX Transportation, Inc.—Abandonment Exemption—in Allegany County, Md.

AGENCY: Surface Transportation Board, DOT.

ACTION: Notice of exemption.

SUMMARY: Under 49 U.S.C. 10502, the Board is granting a petition for exemption from the requirements of 49 U.S.C. 10904(f)(4)(A) to permit Eighteen Thirty Group, LLC (Eighteen Thirty) to go forward with its plan to acquire and restore to service an 8.54-mile line of railroad between milepost BAI 27.0 near Morrison and milepost BAI 18.46 at the end of the track near Carlos, in Allegany County, Md. (the Line). Eighteen Thirty is seeking to acquire the Line as a result of the bankruptcy of James Riffin through an agreement with Mark J. Friedman, Chapter 7 Trustee of the Bankruptcy Estate of James Riffin. Because the line previously was acquired from CSX Transportation, Inc. (CSXT) pursuant to the Board's offer of financial assistance provisions at 49 U.S.C. 10904 and 49 CFR 1152.27, section 10904(f)(4)(A) otherwise would prohibit the transfer of the Line to any entity other than CSXT until July 10, 2011.

DATES: The Board's decision granting this exemption will be effective on December 30, 2010. Petitions to reopen must be filed by January 18, 2011.

ADDRESSES: An original and 10 copies of all pleadings, referring to AB 55 (Sub-No.659X), must be filed with the Surface Transportation Board, 395 E Street, SW., Washington, DC 20423-0001. In addition, a copy of each pleading must be served on petitioner's representative: John D. Heffner, John D. Heffner, PLLC, 1750 K Street, NW., Suite 200, Washington, DC 20006.

FOR FURTHER INFORMTION CONTACT: Joseph H. Dettmar, (202) 245-0395. Assistance for the hearing impaired is available through the Federal Information Relay Service (FIRS) at 1-800-877-8339.

SUPPLEMENTARY INFORMATION: Additional information is contained in the Board's decision. Board decisions and notices are available on our Web site at http://www.stb.dot.gov.

Decided: December 29, 2010.
By the Board, Chairman Elliott, Vice Chairman Mulvey, and Commissioner Nottingham.
Jeffrey Herzig,
Clearance Clerk.

[FR Doc. 2010-33191 Filed 1-3-11; 8:45 am]

BILLING CODE 4915-01-P